DEPARTMENT OF THE INTERIOR

Bureau of Ocean Energy Management

[Docket No. BOEM-2018-0069]

Notice of Rescheduled Public Hearings and Reopening of the Public Comment Period for the Draft Environmental Impact Statement for Vineyard Wind LLC's Proposed Wind Energy Facility Offshore Massachusetts

AGENCY: Bureau of Ocean Energy Management, Interior.

ACTION: Notice to reschedule public hearings and reopen public comment period.

SUMMARY: The Bureau of Ocean Energy Management (BOEM), as the National Environmental Policy Act (NEPA) Federal lead agency, has rescheduled the public hearings and reopened the public comment period for the Draft Environmental Impact Statement (EIS) for the Construction and Operation Plan (COP) submitted by Vineyard Wind LLC (Vineyard Wind).

DATES: The comment period for the Draft EIS that was first opened when BOEM published a Notice of Availability of the Draft EIS on December 7, 2018, (83 FR 63184) is being reopened. Comments should be submitted no later than February 22, 2019. BOEM's public hearings have been rescheduled and will be held at the following dates and times. Please see the ADDRESSES section for the specific locations.

Nantucket, Massachusetts: Monday, February 11, 2019.

Vineyard Haven, Massachusetts: Tuesday, February 12, 2019.

Hyannis, Massachusetts: Wednesday, February 13, 2019.

New Bedford, Massachusetts: Thursday, February 14, 2019.

Narragansett, Rhode Island: Friday, February 15, 2019.

ADDRESSES: The Draft EIS and detailed information about the proposed wind energy facility, including the COP, can be found on BOEM's website at: https://www.boem.gov/Vineyard-Wind/. Comments can be submitted in any of the following ways:

• In written form, delivered by U.S. Postal Service or other delivery service, enclosed in an envelope labeled “Vineyard Wind COP Draft EIS” and addressed to Program Manager, Office of Renewable Energy, Bureau of Ocean Energy Management, 45600 Woodland Road, Sterling, Virginia 20166. Comments must be received or postmarked no later than February 22, 2019; or

• Through the regulations.gov web portal: Navigate to htttp://www.regulations.gov and search for Docket No. BOEM-2018-0069. Click on the “Comment Now!” button to the right of the document link. Enter your information and comment, then click “Submit.”

Since publication in December 2018, copies of the Draft EIS have been and are still available for public review on BOEM's website and at the following locations:

Massachusetts

Aquinnah Public Library, Aquinnah

Boston Public Library, Boston

Chilmark Free Public Library, Chilmark

Edgartown Public Library, Edgartown

Hyannis Public Library, Hyannis

New Bedford Free Public Library, New Bedford

Oak Bluffs Public Library, Oak Bluffs

Nantucket Atheneum, Nantucket

Vineyard Haven Public Library, Vineyard Haven

West Tisbury Free Public Library, Vineyard Haven

Woods Hole Public Library, Woods Hole

Rhode Island

Maury Loontjens Memorial Library, Narragansett

The public hearings for the Draft EIS for the Vineyard Wind COP have been rescheduled and will be held at the following places and times.

Nantucket, Massachusetts: Monday, February 11, 2019; Nantucket Atheneum, 1 India Street, Nantucket, Massachusetts 02554; Open House 5:00-7:30 p.m.; Presentation and Q&A 6:00 p.m.

Vineyard Haven, Massachusetts: Tuesday, February 12, 2019; Martha's Vineyard Hebrew Center, 130 Center Street, Vineyard Haven, Massachusetts 02568; Open House 5:00-8:00 p.m.; Presentation and Q&A 6:00 p.m.

Hyannis, Massachusetts: Wednesday, February 13, 2019; Double Tree Hotel, Cape Cod Room, 287 Iyannough Road, Hyannis, Massachusetts 02601; Open House 5:00-8:00 p.m.; Presentation and Q&A 6:00 p.m.

New Bedford, Massachusetts: Thursday, February 14, 2019; Fairfield Inn and Suites Waypoint Event Center, 185 MacArthur Drive, New Bedford, Massachusetts 02740; Open House 5:00-8:00 p.m.; Presentation and Q&A 6:00 p.m.

Narragansett, Rhode Island: Friday, February 15, 2019; Narragansett Community Center, 53 Mumford Road, Narragansett, RI 02882; Open House 5:00-8:00 p.m.; Presentation and Q&A 6:00 p.m.

FOR FURTHER INFORMATION CONTACT: For information on the Vineyard Wind COP Draft EIS please contact Michelle Morin, BOEM Office of Renewable Energy Programs, 45600 Woodland Road, Sterling, Virginia 20166, (703) 787-1722 or michelle.morin@boem.gov.

BOEM does not consider anonymous comments. Please include your name and address as part of your submittal. BOEM makes all comments, including the name and addresses of respondents, available for public review during regular business hours. Individual respondents may request that BOEM withhold their names or addresses from the public record; however, BOEM cannot guarantee that it will be able to do so. If you wish your name or address to be withheld, you must state your preference prominently at the beginning of your comment. All submissions from organizations or businesses and from individuals identifying themselves as representatives or officials of organizations or businesses will be made available for public inspection in their entirety.

Authority: This notice was prepared pursuant to NEPA and implementing regulations at 40 CFR 1506.6 and 43 CFR 46.435.

Dated: February 5, 2019.
William Yancey Brown,
Chief Environmental Officer, Bureau of Ocean Energy Management.

[FR Doc. 2019-01705 Filed 2-7-19; 8:45 am]

BILLING CODE 4310-MR-P